DEPARTMENT OF THE INTERIOR

Bureau of Indian Affairs

Advisory Board for Exceptional Children

AGENCY: Bureau of Indian Affairs, Interior.

ACTION: Notice of meeting.

SUMMARY: The Bureau of Indian Education (BIE) is announcing that the Advisory Board for Exceptional Children (Advisory Board) will hold its next meeting in Tampa, Florida. The BIE Advisory Board will hold its meeting in conjunction with the BIE Special Education Academy. The purpose of the meeting is to meet the mandates of the Individuals with Disabilities Education Act of 2004 (IDEA) for Indian children with disabilities.

DATES: The Advisory Board will meet on Sunday, September 11, 2011, from 6 p.m. to 8 p.m. and Monday, September 12, 2011, from 8 a.m. to 4 p.m. Eastern Daylight Time.

ADDRESSES: The meeting will be held at the Hyatt Regency Tampa, 211 North Tampa Street, Tampa, Florida 33602; telephone number (813) 225-1234. The Advisory Board will meet in the Garrison Suite.

FOR FURTHER INFORMATION CONTACT: Sue Bement, Designated Federal Official, Bureau of Indian Education, Albuquerque Service Center, Division of Performance and Accountability, 1011 Indian School Road NW., Suite 332, Albuquerque, NM 87104; telephone number (505) 563-5274.

SUPPLEMENTARY INFORMATION: In accordance with the Federal Advisory Committee Act, the BIE is announcing that the Advisory Board will hold its next meeting in Tampa, Florida. The Advisory Board was established under the Individuals with Disabilities Act of 2004 (20 U.S.C. 1400 et seq.) to advise the Secretary of the Interior, through the Assistant Secretary—Indian Affairs, on the needs of Indian children with disabilities. The meetings are open to the public.

The following items will be on the agenda:

• Report from Gloria Yepa, Supervisory Education Specialist, BIE, Division of Performance and Accountability.

• Report from BIE Director's Office.

• Report from Dr. Jeffrey Hamley, Associate Deputy Director, BIE.

• Priority Groups.

• Annual Report.

• Public Comment (via conference call, September 12, 2011, meeting only*).

• BIE Advisory Board-Advice and Recommendations:

*During the September 12, 2011, meeting, time has been set aside for public comment via conference call from 11:30-12 p.m. Eastern Standard Time. The call-in information is: Conference Number 1-888-417-0376, Passcode 1509140.

Dated: July 6, 2011.
Larry Echo Hawk,
Assistant Secretary, Indian Affairs.

[FR Doc. 2011-17392 Filed 7-11-11; 8:45 am]

BILLING CODE 4310-6W-P